ENVIRONMENTAL PROTECTION AGENCY

[FRL-7612-1]

Brunswick Wood Preserving Superfund Site; Notice of Proposed Settlement

AGENCY: Environmental Protection Agency.

ACTION: Notice of proposed settlement.

SUMMARY: Under section 122(h)(1) of the Comprehensive Environmental Response, Compensation and Liability Act (CERCLA), the Environmental Protection Agency (EPA) has entered into an Administrative Agreement (Agreement) at the Brunswick Wood Preserving Superfund Site (Site) located in Glynn County, Brunswick, Georgia, with Kerr-McGee Chemical L.L.C. EPA will consider public comments on the Agreement until February 23, 2004. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887.

Written comment may be submitted to Greg Armstrong at the above address within 30 days of the date of publication.

Dated: November 19, 2003.
Rosalind H. Brown,
Chief, Superfund Enforcement & Information Management Branch, Waste Management Division.

[FR Doc. 04-1235 Filed 1-21-04; 8:45 am]

BILLING CODE 6560-50-P